TENNESSEE VALLEY AUTHORITY

Environmental Impact Statement for Bear Creek Dam Leakage Resolution

AGENCY: Tennessee Valley Authority.

ACTION: Notice of intent.

SUMMARY: The Tennessee Valley Authority (TVA) will prepare an environmental impact statement (EIS) addressing the proposed resolution of leakage problems at Bear Creek Dam, Franklin County, Alabama. Since the dam was completed in 1969, there has been excessive leakage of water through its foundation and TVA seeks a long-term resolution of this leakage. TVA will use the EIS process to obtain public involvement on this proposal. Public comment is invited concerning both the scope of the EIS and environmental issues that should be addressed as a part of this EIS.

DATES: Comments on the scope and environmental issues for the EIS must be postmarked or e-mailed no later than July 3, 2006 to ensure consideration.

ADDRESSES: Written comments should be sent to Charles P. Nicholson, Environmental Stewardship and Policy, Tennessee Valley Authority, Mail Stop WT 9B, 400 West Summit Hill Drive, Knoxville, Tennessee 37902-1499. Comments may be e-mailed to cpnichol@tva.gov or submitted by fax at (865) 632-6855.

FOR FURTHER INFORMATION CONTACT: Warren P. Behlau, Tennessee Valley Authority, Mail Stop LP 3D-C, 1101 Market Street, Chattanooga, Tennessee 37402-2801. Telephone (423) 751-8760. E-mail may be sent to wpbehlau@tva.gov.

SUPPLEMENTARY INFORMATION:

Background

Bear Creek Reservoir is one of four reservoirs located in northwest Alabama that comprise the Bear Creek Project. The Bear Creek Project was authorized by Congress in 1964 for the primary purposes of flood control, recreation, and economic development, including water supply. The project dams do not generate electricity. Construction of Bear Creek Dam began in 1967 and was completed in 1969. The earth-fill dam has a maximum height of 68 feet and length of 1385 feet. It impounds a reservoir with a maximum length of 12 miles, summer pool of 690 acres, and approximately 39 miles of shoreline. Most of the reservoir shoreline is owned by TVA and much of the adjacent back-lying land is owned by Bear Creek Development Authority (BCDA), a state agency. Shoreline development consists of an environmental education center and two public recreation areas with campgrounds and other facilities operated by BCDA, and a municipal raw water intake and treatment plant operated by the Franklin County Water Service Authority approximately 2.3 miles upstream of Bear Creek Dam.

Bear Creek Dam has a concrete chute spillway with an elevation of 602 feet. The reservoir has historically been operated with a winter pool elevation of 565 feet and a summer pool elevation of 576 feet. The target spring fill date is mid-April and the target date to begin the winter drawdown in November 15. Under normal conditions, discharges are through a tower-type intake structure, sluiceway tunnel, and stilling basin. The reservoir is operated to maintain a minimum continuous flow of 21 cubic feet per second at Red Bay, Alabama, about 23 miles downstream of Bear Creek Dam.

Bear Creek Dam is constructed of earth fill. A portion of the dam was constructed on residual soil and there are numerous sinkholes in its vicinity. Since the completion of the dam in 1969, there has been continuous leakage of water through the foundation of the dam. Although some leakage is typical of earthen dams, the amount at Bear Creek has been excessive. In 1972, TVA completed a major foundation drilling and grouting project which reduced the leakage. Since 1972 the leakage has slowly increased and TVA has attempted several subsequent repairs. The most recent repairs were in 2004-2005, when TVA completed another major drilling and grouting project. This repair project did not adequately reduce leakage when the reservoir was returned to its normal summer pool level.

The excessive leakage through the dam foundation increases the risk of dam failure, especially when the pool level is at an elevation above 570 feet. TVA has taken steps to minimize this risk by maintaining the summer reservoir pool at an elevation of 568 feet, eight feet lower than the normal summer operating level of 576 feet. The normal winter pool level continues to be 565 feet. Due to the limited size of the intake structure and sluiceway, however, TVA cannot pass enough water through them during many rainfall events to prevent the pool from rising above 570 feet. When heavy rains cause the reservoir to rise above elevation 576, TVA notifies the local emergency management agencies of the increased risk and monitors the situation closely. TVA also has equipment and materials on hand for emergency repairs, should a sinkhole or other problem develop.

TVA recognizes that these measures are not viable long-term solutions to the leakage problem. TVA's Hydro Board of Consultants has jointly agreed with TVA that it must take action to resolve the leakage problem.

Potential Alternatives

TVA is considering a range of alternatives. Although the No Action alternative, which consists of operating the dam as designed, would not remedy the leakage problem, it would provide a baseline for comparison with other alternatives and its consideration is required by the implementing regulations for the National Environmental Policy Act (NEPA). Other alternatives under consideration include: (1) Continue to operate the dam as done since 2005 with a lower summer pool elevation of 568 feet; (2) modify the dam by rebuilding the spillway at a lower elevation to maintain a winter pool elevation of 565 feet and with a maximum rise of 5 feet; (3) repair the dam by installing a grout curtain in the soil foundation or by building a barrier to prevent flow through the dam; (4) remove the dam and rebuild it in approximately the same location and with similar operating characteristics; (5) build a new weir dam, capable of maintaining a reservoir pool elevation of 565 feet, a short distance downstream of the Franklin County Water Service Authority water intake, remove Bear Creek Dam, and restore the former creek channel; and (6) remove the dam and restore the original creek channel.

TVA will use the results of the public scoping process and additional technical studies to refine the range of alternatives that will be evaluated in detail in the EIS.

Proposed Issues To Be Addressed

The EIS will contain descriptions of the existing environmental and socioeconomic resources within the area that would be affected by the proposed action. TVA's evaluation of potential environmental impacts to these resources will include, but not necessarily be limited to, the potential impacts on water quality, water supply, aquatic and terrestrial ecology, endangered and threatened species, wetlands, flooding and floodplains, recreation, aesthetics and visual resources, land use including agricultural operations, historic and archaeological resources, and socioeconomic resources.

Scoping Process

Scoping, which is integral to the process for implementing NEPA, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to a proposed action. The range of alternatives and the issues to be addressed in the draft EIS will be determined, in part, from written comments submitted by mail or e-mail, and comments presented orally or in writing at any public meetings. The preliminary identification of reasonable alternatives and environmental issues in this notice is not meant to be exhaustive or final.

The scoping process will include both interagency and public scoping. The public is invited to submit written comments or e-mail comments on the scope of this EIS no later than the date given under the DATES section of this notice.

TVA will conduct a public scoping meeting on June 20, 2006, at the Arts and Entertainment Center in Red Bay, Alabama. The meeting, which will be conducted in an open-house format, will be from 4 p.m. to 8 p.m. At the meeting, TVA staff will describe the project and the EIS process, answer questions, and solicit comments on the issues that the public would like addressed in the EIS. The meeting will be publicized through notices in local newspapers, by TVA press releases, on the TVA Web site at http://www.tva.gov/environment/calendar.htm, and in letters to local elected officials.

The agencies to be included in the interagency scoping are U.S. Army Corps of Engineers, U.S. Fish and Wildlife Service, Bear Creek Development Agency, Alabama Department of Environmental Management, the Alabama Historical Commission, and other Federal, State, and local agencies, as appropriate. After consideration of the scoping comments, TVA will further identify alternatives and environmental issues to be addressed in the EIS. Following analysis of the environmental consequences of each alternative, TVA will prepare a draft EIS for public review and comment. Notice of availability of the draft EIS will be published by the Environmental Protection Agency in the Federal Register. TVA will solicit written comments on the draft EIS, and information about public meetings to comment on the draft EIS will be announced. TVA expects to release a draft EIS in the spring of 2007 and a final EIS in the fall of 2007.

In the event the situation unexpectedly worsens or is determined to be worse, it may be necessary to take action expeditiously to address this consistent with applicable procedures for emergency actions.

Dated: May 26, 2006.
Kathryn J. Jackson,
Executive Vice President, River System Operations & Environment.

[FR Doc. E6-8564 Filed 6-1-06; 8:45 am]

BILLING CODE 8120-08-P